DEPARTMENT OF THE INTERIOR

Fish and Wildlife Service

Receipt of an Application for an Incidental Take Permit for the Florida Scrub-Jay Resulting From Construction of a Multi-Home Subdivision in Volusia County, FL

AGENCY: Fish and Wildlife Service, Interior.

ACTION: Notice.

SUMMARY: Ocean Shore Estates, LLC (Applicant) requests an incidental take permit (ITP) for a duration of five years, pursuant to section 10(a)(1)(B) of the Endangered Species Act of 1973 (Act), as amended (U.S.C. 1531 et seq.). The Applicant anticipates destroying about 1.8 acres of occupied Florida scrub-jay (Aphelocoma coerulescens (scrub-jay) habitat in Section 21, Township 13 South, Range 32 East, Volusia County, Florida. Habitat destruction would be expected due to vegetation clearing and the subsequent construction of infrastructure and single-family homes. One scrub-jay family could be taken as a result of the Applicant's proposed actions.

The Applicant's Habitat Conservation Plan (HCP) describes the alternatives considered, as well as mitigation and minimization measures proposed to address the effects of the project on the scrub-jay. These measures are also outlined in the SUPPLEMENTARY INFORMATION section below. We announce the availability of the ITP application, HCP, and an environmental assessment. Copies of the application, HCP, and environmental assessment may be obtained by making a request to the Southeast Regional Office (see ADDRESSES). Requests must be in writing to be processed. This notice is provided pursuant to section 10 of the Act and National Environmental Policy Act (NEPA) regulations (40 CFR 1506.6).

DATES: Written comments on the ITP application, HCP, and environmental assessment should be sent to the Service's Southeast Regional Office (see ADDRESSES) and should be received on or before March 20, 2006.

ADDRESSES: Persons wishing to review the application, HCP, and environmental assessment may obtain a copy by writing the Service's Southeast Regional Office at the address below. Please reference permit number TE105727-0 in such requests. Documents will also be available for public inspection by appointment during normal business hours either at the Southeast Regional Office, U.S. Fish and Wildlife Service, 1875 Century Boulevard, Suite 200, Atlanta, Georgia 30345 (Attn: Endangered Species Permits), or at the Jacksonville Field Office, U.S. Fish and Wildlife Service, 6620 Southpoint Drive South, Suite 310, Jacksonville, Florida 32216-0912 (Attn: Field Supervisor).

FOR FURTHER INFORMATION CONTACT: Mr. David Dell, Regional HCP Coordinator, Southeast Regional Office (see ADDRESSES above), telephone: (404) 679-7313, facsimile: (404) 679-7081; or Mr. Mike Jennings, Fish and Wildlife Biologist, Jacksonville Field Office (see ADDRESSES above), telephone: (904) 232-2580.

SUPPLEMENTARY INFORMATION: If you wish to comment, you may submit comments by any one of several methods. Please reference permit number TE105727-0 in such comments. You may mail comments to the Service's Southeast Regional Office (see ADDRESSES). You may also comment via the internet to david_dell@fws.gov. Please submit comments over the internet as an ASCII file, avoiding the use of special characters and any form of encryption. Please also include your name and return address in your e-mail message. If you do not receive a confirmation from us that we have received your e-mail message, contact us directly at either telephone number listed above (see FOR FURTHER INFORMATION CONTACT). Finally, you may hand-deliver comments to either Service office listed above (see ADDRESSES).

Our practice is to make comments, including names and home addresses of respondents, available for public review during regular business hours. Individual respondents may request that we withhold their home addresses from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The Florida scrub-jay (scrub-jay) is geographically isolated from other species of scrub-jays found in Mexico and the western United States. The scrub-jay is found exclusively in peninsular Florida and is restricted to xeric uplands (well-drained, sandy soil habitats supporting a growth of oak-dominated scrub). Increasing urban and agricultural development has resulted in habitat loss and fragmentation, which has adversely affected the distribution and numbers of scrub-jays. The total estimated population is between 7,000 and 11,000 individuals.

The decline in the number and distribution of scrub-jays in east-central Florida has been exacerbated by agricultural land conversions and urban growth in the past 100 years. Much of the historic commercial and residential development has occurred on the dry soils that previously supported scrub-jay habitat. Based on existing soils data, much of the historic and current scrub-jay habitat of coastal east-central Florida occurs proximal to the current shoreline and larger river basins. Much of this area of Florida was settled early because few wetlands restricted urban and agricultural development. Due to the effects of urban and agricultural development over the past 100 years, much of the remaining scrub-jay habitat is now relatively small and isolated. What remains is largely degraded, due to interruption of the natural fire regime that is needed to maintain xeric uplands in conditions suitable for scrub-jays.

From 2003 through 2005, one family of scrub-jays was found using 1.8 acres within the project site. Scrub-jays using the project site are part of a small complex of scrub-jays located in a matrix of urban and natural settings in areas of the barrier islands of Flagler and northern Volusia Counties. Persistent urban growth in the vicinity of the project is expected to result in further reductions in the amount of suitable habitat for scrub-jays. Increasing urban pressures are also likely to result in the continued degradation of scrub-jay habitat as fire exclusion slowly results in vegetative overgrowth. Thus, over the long-term, scrub-jays are unlikely to persist in the vicinity of the project, and conservation efforts for this species should target acquisition and management of large parcels of land outside the direct influence of urbanization.

Construction of the project's home sites, facilities and infrastructure would result in harm to scrub-jays, incidental to the carrying out of these otherwise lawful activities. The proposed residential construction and associated infrastructure would eliminate the availability of foraging, sheltering, and possible nesting habitat for one family of scrub-jays.

The Applicant proposes to mitigate the loss of 1.8 acres of scrub-jay habitat by providing $78,214.00 to the National Fish and Wildlife Foundation, Florida Scrub Jay Mitigation Fund, or to another entity identified by the Service. Mitigation funding would be used for scrub-jay conservation and may include the acquisition, management, and/or restoration of scrub-jay habitat. This contribution has been determined by the Service to be sufficient to purchase and permanently manage 3.6 acres of scrub-jay habitat in Volusia County. In addition, the Applicant would minimize the loss by surveying for any possible scrub-jay nesting activity during the breeding season. If active nesting were observed in the project area, construction would be halted until any young fledged.

The Service has made a preliminary determination that the issuance of the ITP is not a major Federal action significantly affecting the quality of the human environment within the meaning of section 102(2)(C) of NEPA. This preliminary information may be revised due to public comment received in response to this notice and is based on information contained in the environmental assessment and HCP.

The Service will evaluate the HCP and comments submitted thereon to determine whether the application meets the requirements of section 10(a)(1)(B) of the Act. If it is determined that those requirements are met, the ITP will be issued for incidental take of the Florida scrub-jay. The Service will also evaluate whether issuance of the section 10(a)(1)(B) ITP complies with section 7 of the Act by conducting an intra-Service section 7 consultation. The results of this consultation, in combination with the above findings, will be used in the final analysis to determine whether or not to issue the ITP.

Dated: December 19, 2005.
Cynthia K. Dohner,
Acting Regional Director, Southeast Region.

[FR Doc. E6-376 Filed 1-13-06; 8:45 am]

BILLING CODE 4310-55-P